DEPARTMENT OF AGRICULTURE

Rural Utilities Service

[Docket No. RUS-22-TELECOM-0028]

Notice of Request for Extension of a Currently Approved Information Collection

AGENCY: Rural Utilities Service, Department of Agriculture (USDA).

ACTION: Notice; comment requested.

SUMMARY: In accordance with the Paperwork Reduction Act of 1995, this notice announces the intention of the Rural Utilities Service (RUS) to request Office of Management and Budget's (OMB) approval for an extension of a currently approved information collection in support of the Telecommunications Infrastructure Loan program.

DATES: Comments on this notice must be received by August 16, 2022.

FOR FURTHER INFORMATION CONTACT: Susan Woolard, Special Projects Coordinator, Rural Development Innovation Center—Regulations Management Division, USDA, 1400 Independence Avenue SW, South Building, Washington, DC 20250-1522. Telephone: (202) 720-9631. Email susan.woolard@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for extension.

Comments

Comments are invited on: (a) Whether this collection of information is necessary for the proper performance of the functions of the Agency, including whether the information will have practical utility; (b) The accuracy of the Agency's estimate of the burden of the collection of information including the validity of the methodology and assumptions used; (c) Ways to enhance the quality, utility, and clarity of the information to be collected; and (d) Ways to minimize the burden of the collection of information on those who respond, including through the use of appropriate automated, electronic, mechanical or other technological collection techniques, or other forms of information technology.

Comments may be sent by the Federal eRulemaking Portal: Go to https://www.regulations.gov and, in the lower “Search Regulations and Federal Actions” box, select “RUS” from the agency drop-down menu, then click on “Submit.” In the Docket ID column, select RUS-22-TELECOM-0028 to submit or view public comments and to view supporting and related materials available electronically. Information on using Regulations.gov, including instructions for accessing documents, submitting comments, and viewing the docket after the close of the comment period, is available through the site's “User Tips” link.

Title: Part 1737, Pre-Loan Policies and Procedures Common to Insured and Guaranteed Telecommunications Loans.

OMB Control Number: 0572-0079.

Type of Request: Extension of a currently approved collection.

Abstract: USDA, Rural Utilities Service (RUS) makes mortgage loans and loan guarantees to finance telecommunications, electric, and water and waste facilities in rural areas with a loan portfolio that totals more than $58 billion. In addition to providing loans and loan guarantees, one of the objectives of RUS is to safeguard loan security until the loan is repaid. Accordingly, RUS manages loan programs in accordance with the Rural Electrification Act of 1936, 7 U.S.C. 901 et seq, as amended, (RE Act), and as prescribed by Office of Management and Budget (OMB) Circular A-129, Policies for Federal Credit Programs and Non-Tax Receivables, which states that based on a review of a loan application, agencies must determine that an applicant complies with statutory, regulatory, and administrative eligibility requirements for loan assistance. Section 201 of the RE Act authorizes the RUS Administrator to make loans to qualified telephone companies for providing telephone service to the widest practicable number of rural subscribers. The reporting burden covered by this collection of information consists of forms, documents and written burden to support a request for funding for a Telecommunications Infrastructure loan.

Estimate of Burden: Public reporting burden for this collection of information is estimated to average 37.04 hours per response.

Respondents: Businesses, not-for-profit institutions and others.

Estimated Number of Respondents: 43.

Total Annual Responses: 309.

Estimated Number of Responses per Respondent: 7.19.

Estimated Total Annual Burden on Respondents: 11,445 hours.

Copies of this information collection can be obtained from Susan Woolard, Special Projects Coordinator, Innovation Center—Regulations Management Division, at (202) 720-9631. Email: susan.woolard@usda.gov.

All responses to this notice will be summarized and included in the request for OMB approval. All comments will also become a matter of public record.

Christopher A. McLean,
Acting Administrator, Rural Utilities Service.

[FR Doc. 2022-13099 Filed 6-16-22; 8:45 am]

BILLING CODE 3410-XV-P